DEPARTMENT OF TRANSPORTATION

Federal Aviation Administration

One Hundredth RTCA SC-159 Navigation Equipment Using the Global Navigation Satellite System (GNSS) Plenary

AGENCY: Federal Aviation Administration (FAA), U.S. Department of Transportation (DOT).

ACTION: One Hundredth RTCA SC-159 Navigation Equipment Using the Global Navigation Satellite System (GNSS) Plenary.

SUMMARY: The FAA is issuing this notice to advise the public of a meeting of One Hundredth RTCA SC-159 Navigation Equipment Using the Global Navigation Satellite System (GNSS) Plenary.

DATES: The meeting will be held March 16, 2018 9:00 a.m.-5:00 p.m.

ADDRESSES: The meeting will be held at: RTCA Headquarters, 1150 18th Street NW, Suite 910, Washington, DC 20036.

FOR FURTHER INFORMATION CONTACT: Karan Hofmann at khofmann@rtca.org or 202-330-0680, or The RTCA Secretariat, 1150 18th Street NW, Suite 910, Washington, DC 20036, or by telephone at (202) 833-9339, fax at (202) 833-9434, or website at http://www.rtca.org.

SUPPLEMENTARY INFORMATION: Pursuant to section 10(a)(2) of the Federal Advisory Committee Act (Pub. L. 92-463, 5 U.S.C., App.), notice is hereby given for a meeting of the One Hundredth RTCA SC-159 Navigation Equipment Using the Global Navigation Satellite System (GNSS) Plenary. The agenda will include the following:

1. Introductory Remarks: DFO, RTCA and Co-Chairs

2. Approval of Summaries of Previous Meetings

A. Ninety-Nineth Meeting Held October 27, 2017, RTCA Paper No. 012-18/SC159-1067.

3. Final Review and Comment (FRAC) Activities

A. DO-235() Update

B. GNSS L1/L5 Antenna MOPS

4. Review Working Group (WG) Progress and Identify Issues for Resolution.

A. GPS/WAAS (WG-2)

B. GPS/GLONASS (WG-2A)

C. GPS/Inertial (WG-2C)

D. GPS/Precision Landing Guidance (WG-4)

E. GPS/Interference (WG-6)

—Discussion Regarding Taking Draft DO-292 Revision Into Final Review and Comment (FRAC)

F. GPS/Antennas (WG-7)

5. Review of EUROCAE Activities and Discussion of Joint Activity With EUROCAE on a Dual-Frequency, Multi-Constellation GNSS Receiver MOPS

6. Update on ICAO/Navigation Systems Panel Dual Frequency/Multi-Constellation Concept of Operations (CONOPS)

7. Discussion of Terms of Reference Updates

8. Action Item Review

9. Assignment/Review of Future Work

10. Other Business

11. Date and Place of Next Meeting

12. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on January 24, 2018.
Mohannad Dawoud,
Management & Program Analyst, Partnership Contracts Branch, ANG-A17, NextGen, Procurement Services Division, Federal Aviation Administration.

[FR Doc. 2018-01562 Filed 1-26-18; 8:45 am]

BILLING CODE 4910-13-P